DEPARTMENT OF EDUCATION

[Docket No.: ED-2023-SCC-0169]

Agency Information Collection Activities; Submission to the Office of Management and Budget for Review and Approval; Comment Request; Comprehensive Literacy State Development (CLSD) Annual Performance Report

AGENCY: Office of Elementary and Secondary Education (OESE), Department of Education (ED).

ACTION: Notice.

SUMMARY: In accordance with the Paperwork Reduction Act (PRA) of 1995, the Department is proposing a new information collection request (ICR).

DATES: Interested persons are invited to submit comments on or before January 18, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Michael Berry, (202) 453-7088.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Comprehensive Literacy State Development (CLSD) Annual Performance Report.

OMB Control Number: 1810-NEW.

Type of Review: New ICR.

Respondents/Affected Public: State, Local, and Tribal Governments.

Total Estimated Number of Annual Responses: 58.

Total Estimated Number of Annual Burden Hours: 638.

Abstract: The Comprehensive Literacy State Development (CLSD) program is authorized under the Elementary and Secondary Education Act of 1965, as amended (ESEA), Sections 2222-2225. The CLSD program awards competitive grants to advance literacy skills—using evidence-based practices, activities, and interventions, including preliteracy skills, reading, and writing—for children from birth through grade 12, with an emphasis on disadvantaged children, including children living in poverty, English learners, and children with disabilities. Eligible entities include the state education agencies (SEAs) of the 50 states, the District of Columbia, and Puerto Rico. Additionally, directed awards are made to four (4) Outlying Areas: American Samoa, the Commonwealth of the Northern Mariana Islands, Guam, and the U.S. Virgin Islands. A portion of funds is also awarded directly to the Bureau of Indian Education.

CLSD requires that at least 95% of funds awarded to SEAs be distributed to local education agencies through a subgrant award process. However, the current OMB-approved ED generic grant performance report does not include fields to capture program (subgrantee) demographic data or performance measures to ensure grantees are meeting statutory and regulatory requirements and making progress toward meeting the goals and objectives of their approved projects. The proposed performance report metrics reflect the need to collect pertinent grantee- and subgrantee-level data that could be used to guide future program policy and practice and respond to stakeholder, congressional, and agency inquiries. Thus, the CLSD program staff would better understand whom they serve, programmatic needs, strategies to meet those needs, and how collecting program-level data would benefit the students and support their learning. The new CLSD performance report metrics would (a) collect programmatic data that demonstrate aggregate program-level impact; (b) provide subgrantees' aggregated data, such as the number of students and professionals served, how funds have been used (e.g., professional learning, curricular materials), and staffing; and (c) provide the CLSD program staff the data to report the performance and outcomes of the CLSD program, at both the grantee and the subgrantee levels. These new measures also would help to add specificity to ED's monitoring efforts.

Dated: December 13, 2023.
Kun Mullan,
PRA Coordinator, Strategic Collections and Clearance Governance and Strategy Division, Office of Chief Data Officer, Office of Planning, Evaluation and Policy Development.

[FR Doc. 2023-27817 Filed 12-18-23; 8:45 am]

BILLING CODE 4000-01-P